DEPARTMENT OF HOMELAND SECURITY

Coast Guard

33 CFR Part 117

[USCG-2008-0267]

Drawbridge Operation Regulation; Illinois Waterway, Joliet, IL 8K Run

AGENCY: Coast Guard, DHS.

ACTION: Notice of temporary deviation from regulations.

SUMMARY: The Commander, Eighth Coast Guard District has issued a temporary deviation from the regulation governing the operations of the Cass Street Drawbridge, across the Illinois Waterway, Mile 288.1, at Joliet, Illinois. The deviation is necessary for the bridge to remain closed to navigation during the effective period for the Joliet City Center Partnership 8K Run.

DATES: This temporary deviation is effective from 8:30 a.m. to 11:30 a.m., May 10, 2008.

ADDRESSES: Documents indicated in this preamble as being available in the docket are part of docket USCG-2008-0267 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Robert A. Young Federal Building, Room 2.107F, 1222 Spruce Street, St. Louis, MO 63103-2832, between 8 a.m. and 4 p.m., Monday through Friday, except Federal holidays.

FOR FUTHER INFORMATION CONTACT: Roger K. Wiebusch, Bridge Administrator, (314) 269-2378.

SUPPLEMENTARY INFORMATION: The Illinois Department of Transportation requested a temporary deviation for the Cass Street Drawbridge, mile 288.1, at Joliet, Illinois across the Illinois Waterway as the drawbridge is along the route of the Joliet City Center Partnership 8K Run. The Cass Street Drawbridge currently operates in accordance with 33 CFR 117.393(c), which states the general requirement that drawbridges shall open promptly and fully for the passage of vessels when a request to open is given in accordance with the subpart, except that they need not open from 7:30 a.m. to 8:30 a.m. and from 4:15 p.m. to 5:15 p.m., Monday through Saturday. In order to facilitate the annual event, the drawbridge must be kept in the closed-to-navigation position. This deviation allows the drawbridge to remain closed to navigation from 8:30 a.m. to 11:30 a.m., May 10, 2008.

There are no alternate routes for vessels transiting this section of the Illinois Waterway.

The Cass Street Drawbridge, in the closed-to-navigation position, provides a vertical clearance of 16.5 feet above normal pool. Navigation on the waterway consists primarily of commercial tows and recreational watercraft. This temporary deviation has been coordinated with waterway users. No objections were received.

In accordance with 33 CFR 117.35(e), the drawbridge must return to its regular operating schedule immediately at the end of the designated time period. This deviation from the operating regulations is authorized under 33 CFR 117.35.

Dated: April 8, 2008.
Roger K. Wiebusch,
Bridge Administrator.

[FR Doc. E8-8472 Filed 4-17-08; 8:45 am]

BILLING CODE 4910-15-P